DEPARTMENT OF STATE

[Public Notice 7545]

U.S. Department of State Advisory Committee on Private International Law: Notice of Annual Meeting

The Department of State's Advisory Committee on Private International Law (ACPIL) will hold its annual meeting on developments in private international law on Thursday, September 22 and Friday, September 23, 2011, in Washington, DC. The meeting will be held at the Gewirz Student Center, Georgetown University Law Center, 600 New Jersey Avenue, NW., Washington, DC 20001. The program is scheduled to run from 9:30 a.m. to 5 p.m. on Thursday and from 9 a.m. to 2 p.m. on Friday.

Time permitting, we expect that the discussion will focus on developments in a number of areas, e.g., international family law; electronic commerce; regional inter-American issues; U.S. federalism issues in implementing private international law conventions; and current activities relating to private international law in various international and domestic organizations. We also intend to solicit proposals for new work in the PIL field. We encourage active participation by all those attending.

Documents on these subjects are available at http://www.hcch.net; http://www.uncitral.org; http://www.unidroit.org; http://www.oas.org, and http://www.nccusl.org. We may, by e-mail, supplement those with additional documents.

Please advise as early as possible if you plan to attend. The meeting is open to the public up to the capacity of the conference facility, and space will be reserved on a first come, first served basis. Persons who wish to have their views considered are encouraged, but not required, to submit written comments in advance. Those who are unable to attend are also encouraged to submit written views. Comments should be sent electronically to smeltzertk@state.gov. Those planning to attend should provide name, affiliation and contact information to Trisha Smeltzer at 202-776-8423 and Niesha Toms at 202-776-8420, or by e-mail to tomsnn@state.gov and smeltzertk@state.gov. You may also use those contacts to obtain additional information. A member of the public needing reasonable accommodation should advise those same contacts not later than September 13th. Requests made after that date will be considered, but might not be able to be fulfilled.

Dated: August 4, 2011.
Keith Loken,
Assistant Legal Adviser, Office of Private International Law, Office of the Legal Adviser, Department of State.

[FR Doc. 2011-20970 Filed 8-16-11; 8:45 am]

BILLING CODE 4710-08-P